DEPARTMENT OF AGRICULTURE

Food and Nutrition Service

Agency Information Collection Activities: Proposed Collection; Comment Request—The Integrity Profile (TIP)

AGENCY: Food and Nutrition Service, USDA.

ACTION: Notice.

SUMMARY: In accordance with the Paperwork Reduction Act of 1995, this notice announces the intent of the Food and Nutrition Service (FNS) to request Office of Management and Budget (OMB) review of The Integrity Profile data collection and reporting system.

DATES: Comments on this notice must be received or postmarked by July 14, 2003.

ADDRESSES: Send comments and requests for copies of this information collection to: Patricia N. Daniels, Director, Supplemental Food Programs Division, Food and Nutrition Service, U.S. Department of Agriculture, 3101 Park Center Drive, Alexandria, VA 22302.

Pursuant to the Paperwork Reduction Act of 1995 (44 U.S.C. 3507), comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

All responses to this notice will be summarized and included in the request for OMB approval, and will become a matter of public record.

FOR FURTHER INFORMATION CONTACT: Patty Davis, (703) 305-2728.

SUPPLEMENTARY INFORMATION:

Title: The Integrity Profile (TIP).

OMB Number: 0584-0401.

Expiration Date: 6-30-04.

Type of Request: Revisions to the Currently Approved Collection.

Abstract: State agencies administering the Special Supplemental Nutrition Program for Women, Infants and Children (WIC Program) are required by 7 CFR 246.12(j)(5) to submit to FNS an annual summary of the results of their vendor monitoring efforts in order to provide Congress, senior FNS officials, as well as the general public, assurance that every reasonable effort is being made to ensure integrity in the WIC Program. Since 1989, WIC Program State agencies have been required to submit The Integrity Profile (TIP) data annually. FNS compiles the data to produce a national report, which shows the level of monitoring and investigation conducted by WIC State agencies to detect and eliminate, or substantially reduce, vendor fraud and abuse. Most State agencies download the data from their automated system and transmit it electronically to FNS.

Estimate of Burden: Public reporting burden for this collection of information is estimated to average 43.5 hours per response, including the time for reviewing instructions, searching existing data sources, gathering and maintaining the data needed, and completing and reviewing the collection of information.

Respondents: The Program Director of each WIC State agency, which is generally a State Health Department or an Indian Tribal Organization official.

Estimated Number of Respondents: 88 respondents.

Estimated Number of Responses Per Respondent: One.

Estimated Total Annual Burden on Respondents: 3,827.50 hours.

Dated: April 30, 2003.
Roberto Salazar,
Administrator, Food and Nutrition Service.

[FR Doc. 03-11893 Filed 5-12-03; 8:45 am]

BILLING CODE 3410-30-P